DEPARTMENT OF ENERGY

Federal Energy Regulatory Commission

[Docket No. RP00-463-003]

Williston Basin Interstate Pipeline Company; Notice of Compliance Filing

May 3, 2002.

Take notice that on April 29, 2002, Williston Basin Interstate Pipeline Company (Williston Basin or Company), tendered for filing under protest with the Commission as part of its FERC Gas Tariff, Second Revised Volume No. 1, the Pro Forma tariff sheets listed on Appendix A to the filing.

Williston Basin states that the revised tariff sheets are being filed under protest to comply with the requirements of the Commission's February 27, 2002 “Order on Compliance With Order Nos. 637, 587-G and 587-L,” in the above referenced dockets.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11754 Filed 5-9-02; 8:45 am]

BILLING CODE 6717-01-M